DEPARTMENT OF COMMERCE

International Trade Administration

[A-533-838]

Carbazole Violet Pigment 23 From India: Initiation of Antidumping Duty New Shipper Review

AGENCY: Enforcement and Compliance, International Trade Administration, Department of Commerce.

SUMMARY: The U.S. Department of Commerce (Commerce) has determined that a request for a new shipper review (NSR) of the antidumping duty order on carbazole violet pigment 23 from India meets the statutory and regulatory requirements for initiation. The period of review (POR) for the NSR is December 1, 2021, through November 31, 2022.

DATES: Applicable January 27, 2023.

FOR FURTHER INFORMATION CONTACT: Dennis McClure, AD/CVD Operations, Office VIII, Enforcement and Compliance, International Trade Administration, U.S. Department of Commerce, 1401 Constitution Avenue NW, Washington, DC 20230; telephone: (202) 482-5973.

SUPPLEMENTARY INFORMATION:

Background

Commerce published the antidumping duty order on carbazole violet pigment 23 from India on December 29, 2004.¹ On December 9, 2022, and January 3, 2023, pursuant to section 751(a)(2)(B)(i) of the Tariff Act of 1930, as amended (the Act), and 19 CFR 351.214(c), Commerce received timely NSR requests from Navpad Pigments Pvt. Ltd. and Sudarshan Chemical Industries Limited (Sudarshan).² As explained in Commerce's letter to Navpad, we rejected Navpad's request to initiate an NSR because U.S. Customs and Border Protection (CBP) data indicated that the company had made a sale of subject merchandise prior to the beginning of NSR POR and Navpad is, therefore, ineligible for an NSR.³

¹ See Notice of Amended Final Determination of Sales at Less Than Fair Value and Antidumping Duty Order: Carbazole Violet Pigment 23 From India, 69 FR 77988 (December 29, 2004) (Order).

² See Navpad's Letter, “New Shipper Review Request,” dated January 3, 2023; see also Sudarshan's Letters, “Request for Initiation of a New Shipper Review of the Antidumping Duty Order (A-533-838),” dated December 9, 2022; and “Resubmission of Request for Initiation of a New Shipper Review of the Antidumping Duty Order (A-533-838) filed on December 09, 2022,” dated January 19, 2023 (Sudarshan's NSR Request).

³ See Commerce's Letter, “Rejection of New Shipper Review Request,” dated concurrently with this notice; see also Memorandum, “Placement of Navpad Pigments Pvt. Ltd. CBP Data Query Results on the Record,” dated concurrently with this notice. We note that Navpad requested an administrative review under 19 CFR 351.213(b)(1)(4). Based on Navpad's concurrent request for an administrative review, we intend to conduct an administrative review of its entries of subject merchandise during the December 1, 2021, through November 31, 2022 POR, in accordance with 751(a)(1)(B) and 751(a)(2)(A) of the Act.

In its submission, Sudarshan certified that it is the producer and exporter of the subject merchandise subject to this NSR request.⁴ Pursuant to section 751(a)(2)(B)(i)(I) of the Act and 19 CFR 351.214(b)(2)(i), Sudarshan certified that it did not export carbazole violet pigment 23 to the United States during the period of investigation (POI).⁵ Additionally, pursuant to section 751(a)(2)(B)(i)(II) of the Act and 19 CFR 351.214(b)(2)(iii)(A), Sudarshan certified that, since the initiation of the investigation, it has not been affiliated with any producer or exporter that exported carbazole violet pigment 23 to the United States during the POI, including those not individually examined during the investigation.⁶

⁴ Sudarshan's NSR Request at Exhibit 1.

⁵ Id.

⁶ Id.

In its submission, pursuant to 19 CFR 351.214(b)(2)(iv), Sudarshan certified that it would provide necessary information related to the unaffiliated customer in the United States during the NSR. Sudarshan also provided a certification by its unaffiliated customer of its willingness to participate in the NSR.

In addition to the certifications described above, pursuant to 19 CFR 351.214(b)(2)(v), Sudarshan submitted documentation establishing the following: (1) the date on which the subject merchandise was first entered, or withdrawn from warehouse, for consumption; (2) the volume of its first shipment and any subsequent shipments, including whether such shipments were made in commercial quantities; and (3) the date of its first sale and any subsequent sales to an unaffiliated customer in the United States.⁷

⁷ Id. at Exhibits C and D.

Additionally, Sudarshan submitted documentation establishing the circumstances surrounding such sales, including: (1) the price of such sale; (2) any expenses arising from such sale; (3) whether the subject merchandise involved in such sale was resold in the United States at a profit; and (4) whether such sale were made on an arm's-length basis.⁸ Sudarshan also submitted documentation regarding its business activities, including: (1) offers to sell merchandise in the United States; (2) an identification of the complete circumstance surrounding its sales to the United States, as well as any home market or third country sales; and (3) an identification of its relationship to the first unaffiliated U.S. purchaser.⁹

⁸ Id. at Exhibits 1 and C.

⁹ Id.

As explained in the Initiation Checklist, Commerce conducted a query of CBP data but found no suspended/Type 3 entries made by Sudarshan.¹⁰ Section 351.214(b) of Commerce's regulations allows Commerce to accept an NSR request when a company exported, or sold for export, subject merchandise to the United States, and can demonstrate the existence of a bona fide sale.¹¹ As Sudarshan satisfies these requirements, we are initiating an NSR and will provide Sudarshan an opportunity to correct the classification of its entry(ies) to Type 3 (i.e., suspended and subject to antidumping duties) in order to be able to continue to conduct the review.¹²

¹⁰ For further discussion, see Memorandum, “Initiation of Antidumping Duty New Shipper Review: Carbazole Violet Pigment 23,” dated concurrently with this notice (Initiation Checklist).

¹¹ See 19 CFR 351.214(b).

¹² See Initiation Checklist.

Period of Review

In accordance with 19 CFR 351.214(g)(1)(i)(A), the POR for an NSR initiated in the month immediately following the anniversary month will be the twelve-month period immediately preceding the anniversary month. Therefore, the POR for this NSR is December 1, 2021, through November 30, 2022.

Initiation of NSR

Pursuant to section 751(a)(2)(B) of the Act and 19 CFR 351.214(b), and based on the information on the record, we find that Sudarshan's NSR request meets the threshold requirements for initiation of an NSR of its shipments of carbazole violet pigment 23 to the United States.¹³ However, if the information supplied by Sudarshan is later found to be incorrect or insufficient during the course of this NSR, Commerce may rescind the review or apply adverse facts available, pursuant to section 776 of the Act, as appropriate. Pursuant to 19 CFR 351.221(c)(1)(i), Commerce will publish the notice of initiation of an NSR no later than the last day of the month following the anniversary or semiannual anniversary month of the order. Commerce intends to issue the preliminary results of this review no later than 180 days from the date of initiation, and the final results of this review no later than 90 days after the date the preliminary results are issued.¹⁴

¹³ See generally Sudarshan's NSR Request.

¹⁴ See section 751(a)(2)(B)(iii) of the Act.

We intend to conduct this NSR in accordance with section 751(a)(2)(B) of the Act.¹⁵ Because Sudarshan certified that it exported subject merchandise, the sale of which is the basis for its NSR request, Commerce will instruct CBP to suspend or continue to suspend liquidation of all entries of subject merchandise produced and exported by Sudarshan. To assist in its analysis of the bona fide nature of Sudarshan's sale(s), upon initiation of this NSR, Commerce will require Sudarshan to submit, on an ongoing basis, complete transaction information concerning any sales of subject merchandise to the United States that were made subsequent to the POR. Further, in accordance with section 751(a)(2)(B)(iv)(VII) of the Act and 19 CFR 351.214(k), Sudarshan will be required to provide information regarding the following factors for Commerce's consideration in determining whether the sales made by Sudarshan during the period of review are bona fide: (1) whether the producer, exporter, or customer was established for purposes of the sales in question after the imposition of the relevant antidumping or countervailing duty order; (2) whether the producer, exporter, or customer has lines of business unrelated to the subject merchandise; (3) the quantity of sales; and (4) any other factor that Commerce determines to be relevant with respect to the future selling behavior of the producer or exporter, including any other indicia that the sale was not commercially viable.

¹⁵ The Act was amended by the Trade Facilitation and Trade Enforcement Act of 2015, which removed from section 751(a)(2)(B) of the Act the provision directing Commerce to instruct CBP to allow an importer the option of posting a bond or security in lieu of a cash deposit during the pendency of an NSR. This was also codified in Commerce's regulations at 19 CFR 351.214(e).

Interested parties requiring access to proprietary information in this NSR should submit applications for disclosure under administrative protective order in accordance with 19 CFR 351.305 and 351.306.

This initiation notice is published in accordance with section 751(a)(2)(B) of the Act and 19 CFR 351.214 and 351.221(c)(1)(i).

Dated: January 24, 2023.
James Maeder,
Deputy Assistant Secretary for Antidumping and Countervailing Duty Operations.

[FR Doc. 2023-01716 Filed 1-26-23; 8:45 am]

BILLING CODE 3510-DS-P